EQUAL EMPLOYMENT OPPORTUNITY COMMISSION

Agency Information Collection Activities: Proposed Collection; Submission for OMB Review

AGENCY: Equal Employment Opportunity Commission.

ACTION: Final Notice of Submission for OMB Review—Extension Without Change: Employer Information Report (EEO-1).

SUMMARY: In accordance with the Paperwork Reduction Act (PRA), the Equal Employment Opportunity Commission (EEOC or Commission) hereby gives notice that it has submitted to the Office of Management and Budget (OMB) a request for a three-year extension without change of the Employer Information Report (EEO-1).

DATES: Written comments on this notice must be submitted on or before January 7, 2015.

ADDRESSES: A copy of this ICR and applicable supporting documentation submitted to OMB for this review may be obtained from: Ronald Edwards, Director, Program Research and Surveys Division, Equal Employment Opportunity Commission, 131 M Street NE., Room 4SW30F, Washington, DC 20507. Comments on this final notice must be submitted to Chad A. Lallemand, Office of Information and Regulatory Affairs, Office of Management and Budget, 725 17th Street NW., Room 10235, New Executive Office Building, Washington, DC 20503 or electronically mailed to Chad_A._Lallemand@omb.eop.gov. Copies of comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number). Receipt of FAX transmittals will not be acknowledged, except that the sender may request confirmation of receipt by calling the Executive Secretariat staff at (202) 663-4070 (voice) or (202) 663-4074 (TTY). (These are not toll-free telephone numbers.) Instead of sending written comments to EEOC, you may submit comments and attachments electronically at http://www.regulations.gov, which is the Federal eRulemaking Portal. Follow the instructions online for submitting comments. All comments received through this portal will be posted without change, including any personal information you provide. Copies of comments submitted by the public to EEOC directly or through the Federal eRulemaking Portal will be available for review, by advance appointment only, at the Commission's library between the hours of 9:00 a.m. and 5:00 p.m. Eastern Time or can be reviewed at http://www.regulations.gov. To schedule an appointment to inspect the comments at EEOC's library, contact the library staff at (202) 663-4630 (voice) or (202) 663-4641 (TTY). (These are not toll-free numbers.)

FOR FURTHER INFORMATION CONTACT: Ronald Edwards, Director, Program Research and Surveys Division, Equal Employment Opportunity Commission, 131 M Street NE., Room 4SW30F, Washington, DC 20507; (202) 663-4949 (voice) or (202) 663-7063 (TTY). Requests for this notice in an alternative format should be made to the Office of Communications and Legislative Affairs at (202) 663-4191 (voice) or (202) 663-4494 (TTY).

SUPPLEMENTARY INFORMATION: A notice that EEOC would be submitting this request was published in the Federal Register on June 30, 2014 (79 FR 36802), allowing for a 60 day public comment period. One comment was received. This comment was in favor of the continued use of the EEO-1, and also suggested making a change to the reporting procedures that currently prevent parent companies from electronically submitting EEO-1 reports for different subsidiary companies operating at the same physical location within the same industry classification. EEOC has contacted the organization that made the comment and is in the process of setting up a meeting to determine how this suggestion can be implemented by the next reporting cycle.

Overview of Information Collection

Collection Title: Employer Information Report (EEO-1).

OMB Number: 3046-0007.

Frequency of Report: Annual.

Type of Respondent: Private employers with 100 or more employees and certain federal government contractors and first-tier subcontractors with 50 or more employees.

Description of Affected Public: Private employers with 100 or more employees and certain federal government contractors and first-tier subcontractors with 50 or more employees.

Number of Responses: 307,103.

Reporting Hours: 1,044,150.

Respondent Cost: $19.83 million.

Federal Cost: $650,000.¹

¹ The burden and cost estimates in this notice represent the most current figures through the 2013 EEO-1 filing period. The above estimates differ from those published in the Federal Register on June 30, 2014 (79 FR 36802); that notice was inadvertently submitted for publication with inaccurate cost and burden estimates included. This was in error and the above numbers reflect the estimates that should have been included in the June 30, 2014 Federal Register notice.

Number of Forms: 1.

Abstract: Section 709(c) of Title VII of the Civil Rights Act of 1964, as amended, 42 U.S.C. 2000e-8(c), requires employers to make and keep records relevant to a determination of whether unlawful employment practices have been or are being committed, to preserve such records, and to produce such reports as the Commission prescribes by regulation or order. Accordingly, the EEOC issued regulations prescribing the EEO-1 reporting requirement. Employers in the private sector with 100 or more employees and some federal contractors with 50 or more employees have been required to submit EEO-1 reports annually since 1966. The individual reports are confidential. EEO-1 data is used by EEOC to investigate charges of employment discrimination against employers in private industry and to provide information about the employment status of minorities and women. The data is shared with the Office of Federal Contract Compliance Programs (OFCCP), U.S. Department of Labor, and several other federal agencies. Pursuant to § 709(d) of Title VII of the Civil Rights Act of 1964, as amended, EEO-1 data is also shared with state and local Fair Employment Practices Agencies (FEPAs).

Burden Statement: The estimated number of respondents required to submit the annual EEO-1 survey is 70,070 private employers. The annual number of responses is approximately 307,103. The form is estimated to impose 1,044,150 burden hours annually or 3.4 hours per response. In order to help reduce survey burden, respondents are encouraged to report data electronically whenever possible.

Dated: November 25, 2014.
For the Commission.
Jenny R. Yang,
Chair.

[FR Doc. 2014-28667 Filed 12-5-14; 8:45 am]

BILLING CODE 6570-01-P